DEPARTMENT OF ENERGY

Federal Energy Regulatory Commission

Combined Notice of Filings #1

Take notice that the Commission received the following electric corporate filings:

Docket Numbers: EC19-100-000.

Applicants: Tucson Electric Power Company.

Description: Response of Tucson Electric Power Company to September 12, 2019 Deficiency Letter.

Filed Date: 9/26/19.

Accession Number: 20190926-5162.

Comments Due: 5 p.m. ET 10/17/19.

Docket Numbers: EC19-142-000.

Applicants: Energy Center Dover LLC, DB Energy Assets, LLC.

Description: Joint Application for Authorization Under Section 203 of the Federal Power Act, et al. of Energy Center Dover LLC, et al.

Filed Date: 9/26/19.

Accession Number: 20190926-5133.

Comments Due: 5 p.m. ET 10/17/19.

Take notice that the Commission received the following exempt wholesale generator filings:

Docket Numbers: EG19-189-000.

Applicants: Bearkat Wind Energy II LLC.

Description: Notice of Self-Certification of Exempt Wholesale Generator Status of Bearkat Wind Energy II LLC.

Filed Date: 9/26/19.

Accession Number: 20190926-5150.

Comments Due: 5 p.m. ET 10/17/19.

Docket Numbers: EG19-190-000.

Applicants: Camilla Solar Energy LLC.

Description: Notice of Self-Certification of Exempt Wholesale Generator Status of Camilla Solar Energy LLC.

Filed Date: 9/27/19.

Accession Number: 20190927-5044.

Comments Due: 5 p.m. ET 10/18/19.

Take notice that the Commission received the following electric rate filings:

Docket Numbers: ER11-2105-004.

Applicants: Oklahoma Gas and Electric Company.

Description: Notice of Non-Material Change in Status of Oklahoma Gas and Electric Company.

Filed Date: 9/26/19.

Accession Number: 20190926-5145.

Comments Due: 5 p.m. ET 10/17/19.

Docket Numbers: ER19-2092-001.

Applicants: GridLiance Heartland LLC.

Description: Tariff Amendment: GHL OATT Deficiency Filing to be effective 8/9/2019.

Filed Date: 9/26/19.

Accession Number: 20190926-5124.

Comments Due: 5 p.m. ET 10/17/19.

Docket Numbers: ER19-2103-001.

Applicants: GridLiance Heartland LLC.

Description: Tariff Amendment: GLH OATT TSA Deficiency Filing to be effective 12/31/9998.

Filed Date: 9/26/19.

Accession Number: 20190926-5126.

Comments Due: 5 p.m. ET 10/17/19.

Docket Numbers: ER19-2875-000.

Applicants: Interstate Power and Light Company.

Description: § 205(d) Rate Filing: Load Balancing Authority Agreement—IPL and Odin Wind to be effective 11/25/2019.

Filed Date: 9/26/19.

Accession Number: 20190926-5116.

Comments Due: 5 p.m. ET 10/17/19.

Docket Numbers: ER19-2876-000.

Applicants: Sempra Gas & Power Marketing, LLC.

Description: Compliance filing: Sempra Gas & Power Marketing, LLC Revised Market Based Rate Tariff to be effective 9/19/2019.

Filed Date: 9/26/19.

Accession Number: 20190926-5125.

Comments Due: 5 p.m. ET 10/17/19.

Docket Numbers: ER19-2877-000.

Applicants: Southern California Edison Company.

Description: § 205(d) Rate Filing: Second Amendment to LGIA Huntington Beach Energy TOT839 SA No. 196 to be effective 9/28/2019.

Filed Date: 9/27/19.

Accession Number: 20190927-5003.

Comments Due: 5 p.m. ET 10/18/19.

Docket Numbers: ER19-2878-000.

Applicants: Southern California Edison Company.

Description: § 205(d) Rate Filing: Second Amendment to LGIA Alamitos Energy Center TOT840 SA No. 197 to be effective 9/28/2019.

Filed Date: 9/27/19.

Accession Number: 20190927-5004.

Comments Due: 5 p.m. ET 10/18/19.

Docket Numbers: ER19-2879-000.

Applicants: Southern California Edison Company.

Description: § 205(d) Rate Filing: First Amended GIA & DSA Altwind Project WDT1129QFC SA Nos. 867-868 to be effective 9/28/2019.

Filed Date: 9/27/19.

Accession Number: 20190927-5005.

Comments Due: 5 p.m. ET 10/18/19.

Docket Numbers: ER19-2880-000.

Applicants: Alta Oak Realty, LLC.

Description: § 205(d) Rate Filing: Revised Market-Based Rate Tariff to be effective 9/28/2019.

Filed Date: 9/27/19.

Accession Number: 20190927-5042.

Comments Due: 5 p.m. ET 10/18/19.

Docket Numbers: ER19-2881-000.

Applicants: Dutch Wind, LLC.

Description: § 205(d) Rate Filing: Revised Market-Based Rate Tariff to be effective 9/28/2019.

Filed Date: 9/27/19.

Accession Number: 20190927-5045.

Comments Due: 5 p.m. ET 10/18/19.

Docket Numbers: ER19-2882-000.

Applicants: Coachella Wind, LLC.

Description: § 205(d) Rate Filing: Revised Market-Based Rate Tariff to be effective 12/31/9998.

Filed Date: 9/27/19.

Accession Number: 20190927-5048.

Comments Due: 5 p.m. ET 10/18/19.

Docket Numbers: ER19-2883-000.

Applicants: Garnet Wind, LLC.

Description: § 205(d) Rate Filing: Revised Market-Based Rate Tariff to be effective 9/28/2019.

Filed Date: 9/27/19.

Accession Number: 20190927-5057.

Comments Due: 5 p.m. ET 10/18/19.

Docket Numbers: ER19-2884-000.

Applicants: LUZ Solar Partners IX, Ltd.

Description: § 205(d) Rate Filing: Revised Market-Based Rate Tariff to be effective 9/28/2019.

Filed Date: 9/27/19.

Accession Number: 20190927-5059.

Comments Due: 5 p.m. ET 10/18/19.

Docket Numbers: ER19-2885-000.

Applicants: LUZ Solar Partners VIII, Ltd.

Description: § 205(d) Rate Filing: Revised Market-Based Rate Tariff to be effective 9/28/2019.

Filed Date: 9/27/19.

Accession Number: 20190927-5063.

Comments Due: 5 p.m. ET 10/18/19.

Docket Numbers: ER19-2886-000.

Applicants: Mojave 3/4/5 LLC.

Description: § 205(d) Rate Filing: Revised Market-Based Rate Tariff to be effective 9/28/2019.

Filed Date: 9/27/19.

Accession Number: 20190927-5064.

Comments Due: 5 p.m. ET 10/18/19.

Docket Numbers: ER19-2887-000.

Applicants: Mojave 16/17/18 LLC.

Description: § 205(d) Rate Filing: Revised Market-Based Rate Tariff to be effective 9/28/2019.

Filed Date: 9/27/19.

Accession Number: 20190927-5071.

Comments Due: 5 p.m. ET 10/18/19.

Take notice that the Commission received the following electric securities filings:

Docket Numbers: ES19-60-000.

Applicants: PPL Electric Utilities Corporation.

Description: Application under Section 204 of the Federal Power Act for Authorization to Issue Securities of PPL Electric Utilities Corporation.

Filed Date: 9/27/19.

Accession Number: 20190927-5054.

Comments Due: 5 p.m. ET 10/18/19.

Docket Numbers: ES19-61-000.

Applicants: Allegheny Generating Company.

Description: Application under Section 204 of the Federal Power Act for Authorization to Issue Securities of Allegheny Generating Company.

Filed Date: 9/27/19.

Accession Number: 20190927-5062.

Comments Due: 5 p.m. ET 10/18/19.

Docket Numbers: ES19-62-000.

Applicants: Jersey Central Power & Light Co.

Description: Application under Section 204 of the Federal Power Act for Authorization to Issue Securities of Jersey Central Power & Light Company.

Filed Date: 9/27/19.

Accession Number: 20190927-5065.

Comments Due: 5 p.m. ET 10/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2019.
Nathaniel J. Davis, Sr.,
Deputy Secretary.

[FR Doc. 2019-21499 Filed 10-2-19; 8:45 am]

BILLING CODE 6717-01-P